DEPARTMENT OF VETERANS AFFAIRS

Special Medical Advisory Group, Notice of Meeting

The Department of Veterans Affairs (VA) gives notice under the Federal Advisory Committee Act, 5 U.S.C. App. 2, that the Special Medical Advisory Group (the Committee) will meet on March 26, 2021, from 9:30 a.m. EDT to 3:30 p.m. EDT. The meeting is open to the public. The public will only be able to attend virtually. Members of the Committee may join in person or virtually.

The public can join by phone: 1-404-397-1596, Access code 1992896662 or via Webex (please contact POC below for assistance connecting): https://veteransaffairs.webex.com/veteransaffairs/j.php?MTID=m410bc0be78b47b097b592784648aae8c.

The purpose of the Committee is to advise the Secretary of Veterans Affairs and the Under Secretary for Health on the care and treatment of Veterans, and other matters pertinent to the Veterans Health Administration (VHA).

On March 26, 2021, the agenda for the meeting will include discussions regarding data modernization, major construction campaigns, innovation and human capital in medical systems, and an update on Veterans mental health.

Members of the public may submit written statements for review by the Committee to: Department of Veterans Affairs, Special Medical Advisory Group—Office of Under Secretary for Health (10), Veterans Health Administration, 810 Vermont Avenue NW, Washington, DC 20420 or by email at VASMAGDFO@va.gov. Comments will be accepted until close of business on March 24, 2021. In the communication, the writers must identify themselves and state the organization, association of person(s) they represent.

Any member of the public wishing to attend the meeting or seeking additional information should email VASMAGDFO@va.gov or call 202-461-7000.

Dated: March 9, 2021.
LaTonya L. Small,
Federal Advisory Committee Management Officer.

[FR Doc. 2021-05251 Filed 3-12-21; 8:45 am]

BILLING CODE P